DEPARTMENT OF HOMELAND SECURITY

Federal Emergency Management Agency

[Docket ID FEMA-2021-0002; Internal Agency Docket No. FEMA-B-2124]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 26, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2124, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Jefferson County, Colorado and Incorporated Areas
Project: 19-08-0040S Preliminary Date: October 28, 2020
City of Edgewater | Civic Center, 1800 Harlan Street, Edgewater, CO 80214.
City of Lakewood | Civic Center, Public Works, 470 South Allison Parkway, Lakewood, CO 80226.
City of Wheat Ridge | City Hall, 7500 West 29th Avenue, Wheat Ridge, CO 80033.
Unincorporated Areas of Jefferson County | Jefferson County Planning and Zoning Division, 100 Jefferson County Parkway, Suite 3550, Golden, CO 80419.
Cumberland County, Pennsylvania (All Jurisdictions)
Project: 15-03-0142S Preliminary Date: May 14, 2019 and December 18, 2020
Borough of Camp Hill | Borough Administration Office, 2145 Walnut Street, Camp Hill, PA 17011.
Borough of Carlisle | Municipal Building, 53 West South Street, Carlisle, PA 17013.
Borough of Lemoyne | Borough Office, 510 Herman Avenue, Lemoyne, PA 17043.
Borough of Mechanicsburg | Borough Office, 36 West Allen Street, Mechanicsburg, PA 17055.
Borough of Mount Holly Springs | Municipal Building, 200 Harman Street, Mount Holly Springs, PA 17065.
Borough of New Cumberland | Borough Office, 1120 Market Street, New Cumberland, PA 17070.
Borough of Newberg | Borough Office, 105 West Main Street, Newberg, PA 17240.
Borough of Newville | Borough Office, 4 West Street, Newville, PA 17241.
Borough of Shippensburg | Borough Office, 111 North Fayette Street, Shippensburg, PA 17257.
Borough of Shiremanstown | Borough Office, 1 Park Lane, Shiremanstown, PA 17011.
Borough of Wormleysburg | Borough Hall, 20 Market Street, Wormleysburg, PA 17043.
Township of Cooke | Cooke Township Office, 1700 Centerville Road, Newville, PA 17241.
Township of Dickinson | Dickinson Township Building, 219 Mountain View Road, Mount Holly Springs, PA 17065.
Township of East Pennsboro | East Pennsboro Township Community and Municipal Center, 98 South Enola Drive, Enola, PA 17025.
Township of Hampden | Hampden Township Municipal Building, 209 South Sporting Hill Road, Mechanicsburg, PA 17050.
Township of Hopewell | Hopewell Township Administration Building, 415 Three Square Hollow Road, Newberg, PA 17240.
Township of Lower Allen | Lower Allen Township Municipal Services Center, 2233 Gettysburg Road, Camp Hill, PA 17011.
Township of Lower Frankford | Lower Frankford Township Municipal Building, 1205 Easy Road, Carlisle, PA 17015.
Township of Lower Mifflin | Lower Mifflin Township Office, 529 Shed Road, Newville, PA 17241.
Township of Middlesex | Middlesex Township Building, 350 North Middlesex Road, Carlisle, PA 17013.
Township of Monroe | Monroe Township Municipal Complex, 1220 Boiling Springs Road, Mechanicsburg, PA 17055.
Township of North Middleton | North Middleton Township Municipal Building, 2051 Spring Road, Carlisle, PA 17013.
Township of North Newton | North Newton Township Administrative Office, 528 Oakville Road, Shippensburg, PA 17257.
Township of Penn | Penn Township Municipal Building, 1301 Centerville Road, Newville, PA 17241.
Township of Shippensburg | Municipal Office, 81 Walnut Bottom Road, Shippensburg, PA 17257.
Township of Silver Spring | Silver Spring Township Building, 8 Flowers Drive, Mechanicsburg, PA 17050.
Township of South Middleton | South Middleton Township Municipal Building, 520 Park Drive, Boiling Springs, PA 17007.
Township of South Newton | South Newton Township Municipal Building, 11 High Mountain Road, Walnut Bottom, PA 17266.
Township of Southampton | Southampton Township Municipal Building, 200 Airport Road, Shippensburg, PA 17257.
Township of Upper Allen | Upper Allen Township Building, 100 Gettysburg Pike, Mechanicsburg, PA 17055.
Township of Upper Frankford | Upper Frankford Township Building, 660 Mohawk Road, Newville, PA 17241.
Township of Upper Mifflin | Upper Mifflin Township Municipal Building, 455 Whiskey Run Road, Newville, PA 17241.
Township of West Pennsboro | West Pennsboro Township Municipal Building, 2150 Newville Road, Carlisle, PA 17015.
Luzerne County, Pennsylvania (All Jurisdictions)
Project: 15-03-0227S Preliminary Date: September 15, 2020
Borough of Duryea | Municipal Building, 315 Main Street, Duryea, PA 18642.
Borough of Edwardsville | Municipal Building, 470 Main Street, Edwardsville, PA 18704.
Borough of Exeter | Municipal Building, 1101 Wyoming Avenue, Exeter, PA 18643.
Borough of Forty Fort | Municipal Building, 1271 Wyoming Avenue, Forty Fort, PA 18704.
Borough of Kingston | Municipal Building, 500 Wyoming Avenue, Kingston, PA 18704.
Borough of Larksville | Municipal Building, 211 East State Street, Larksville, PA 18704.
Borough of Luzerne | Municipal Building, 144 Academy Street, Luzerne, PA 18709.
Borough of Nescopeck | Municipal Building, 501 Raber Avenue, Nescopeck, PA 18635.
Borough of Plymouth | Municipal Building, 162 West Shawnee Avenue, Plymouth, PA 18651.
Borough of Shickshinny | Municipal Building, 35 West Union Street, Shickshinny, PA 18655.
Borough of Swoyersville | Municipal Building, 675 Main Street, Swoyersville, PA 18704.
Borough of West Pittston | Municipal Building, 555 Exeter Avenue, West Pittston, PA 18643.
Borough of West Wyoming | Municipal Building, 464 West 8th Street, West Wyoming, PA 18644.
Borough of Wyoming | Municipal Building, 277 Wyoming Avenue, Wyoming, PA 18644.
City of Nanticoke | City Hall, 15 East Ridge Street, Nanticoke, PA 18634.
City of Pittston | City Hall, 35 Broad Street, Pittston, PA 18640.
City of Wilkes-Barre | City Hall, 40 East Market Street, Wilkes-Barre, PA 18711.
Township of Conyngham | Township of Conyngham Municipal Building, 10 Pond Hill Road, Mocanaqua, PA 18655.
Township of Exeter | Township of Exeter Municipal Building, 2305 State Route 92, Harding, PA 18643.
Township of Hanover | Municipal Building, 1267 Sans Souci Parkway, Hanover Township, PA 18706.
Township of Hollenback | Township of Hollenback Municipal Building, 660 East County Road, Wapwallopen, PA 18660.
Township of Hunlock | Township of Hunlock Municipal Building, 33 Village Drive, Hunlock Creek, PA 18621.
Township of Jackson | Township Building, 1275 Huntsville Road, Jackson Township, PA 18708.
Township of Jenkins | Township of Jenkins Municipal Building, 46½ Main Street, Pittston, PA 18640.
Township of Nescopeck | Municipal Building, 429 Berwick-Hazelton Highway, Nescopeck, PA 18635.
Township of Newport | Township of Newport Municipal Building, 351 West Kirmar Avenue, Nanticoke, PA 18634.
Township of Plains | Municipal Building, 126 North Main Street, Plains, PA 18705.
Township of Plymouth | Municipal Building, 925 West Main Street, Plymouth, PA 18651.
Township of Salem | Township of Salem Municipal Building, 38 Bomboy Lane, Berwick, PA 18603.
Township of Union | Township of Union Municipal Building, 21 Municipal Road, Shickshinny, PA 18655.

[FR Doc. 2021-08698 Filed 4-26-21; 8:45 am]

BILLING CODE 9110-12-P